DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the name of one individual whose property and interests in property has been blocked pursuant to the Foreign Narcotics Kingpin Designation Act (Kingpin Act) (21 U.S.C. 1901-1908, 8 U.S.C. 1182).

DATES: The designation by the Director of OFAC of the one individual identified in this notice pursuant to section 805(b) of the Kingpin Act is effective on December 18, 2014.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On December 18, 2014, the Director of OFAC designated the following individual whose property and interests in property are blocked pursuant to section 805(b) of the Kingpin Act.

1. ARAUJO URIARTE, Alejandra, Blvd. Guillermo Batiz Paredes No. 1100, Col. Buenos Aires, Culiacan, Sinaloa C.P. 80199, Mexico; Blvd. Enrique Felix Castro No. 1029, Col. Desarrollo Urbano Tres Rios, Culiacan, Sinaloa C.P. 80020, Mexico; Blvd. Pedro Infante No. 3050, Col. Recursos Hidraulicos, Culiacan, Sinaloa C.P. 80100, Mexico; Av. Benjamin Hill No. 5602, Col. Industrial el Palmito, Culiacan, Sinaloa C.P. 80160, Mexico; Blvd. Las Torres No. 2622 Pte., Fracc. Prados del Sol, Culiacan, Sinaloa C.P. 80197, Mexico; Lote de terreno urbano 3 manzana A, Avenida Carlos Lineo antes Avenida Andres Quintana Roo, Colonia Burocrata, Clave Catastral 07000-017-071-020-001, Culiacan Sinaloa, Mexico; Calle General Mariano Escobedo y Avenida Ramon Corona, Clave Catastral 07000-07-001-015-001, Culiacan, Sinaloa, Mexico; Avenida Carlos Lineo No. 17 Manzana E, Fraccionamiento Prolongacion Chapultepec, Clave Catastral 7000-018-104-017-001, Culiacan, Sinaloa, Mexico; Avenida Carlos Lineo No. 18 Manzana E, Fraccionamiento Prolongacion Chapultepec, Clave Catastral 7000-018-104-018-001, Culiacan, Sinaloa, Mexico; Lote de terreno urbano 14 manzana 58 zona 9, Avenida Constituyentes Alberto Terrones Benitez, Clave Catastral 7000-028-650-014, Culiacan, Sinaloa, Mexico; Lote de terreno urbano 1 manzana 58 zona 9, Avenida Alberto Terrones Benitez y Calle Francisco J. Mujica, Clave Catastral 7000-028-650-001, Culiacan, Sinaloa, Mexico; Lote de terreno urbano 23 manzana 5 primera etapa, Avenida Cerro de los Pilares, Clave Catastral 7000-15-170-023, Culiacan, Sinaloa, Mexico; Calle Topolobampo 1628, Fraccionamiento Nuevo Culiacan, Clave Catastral 07000-029-015-050-001, Culiacan, Sinaloa, Mexico; Calle Bahia de Topolobampo 1723, Fraccionamiento Nuevo Culiacan, Clave Catastral 07000-029-015-056-001, Culiacan, Sinaloa, Mexico; Lote de terreno urbano 27 manzana 181, Calle Constituyente Hilario Medina y Avenida Constituyente Antonio Ancona Albertos, Colonia Diaz Ordaz, Clave Catastral 07000-028-181-027-001, Culiacan, Sinaloa, Mexico; Departamento habitacional 103-B edificio 3-B, Calle Carlos Lineo y Avenida Josefa Ortiz de Dominguez 663, Clave Catastral 07000-018-105-029-001, Culiacan, Sinaloa, Mexico; Alvaro Obregon 6040, Colonia Villa Bonita, Culiacan, Sinaloa, Mexico; DOB 09 Feb 1929; alt. DOB 09 Feb 1931; alt. DOB 09 Feb 1932; POB Bacacoragua, Badiraguato, Sinaloa, Mexico; R.F.C. AAUA290209GZ8 (Mexico); C.U.R.P. AAUA290209MSLRRL06 (Mexico) (individual) [SDNTK].

Dated: December 18, 2014.
Adam J. Szubin,
Director, Office of Foreign Assets Control.

[FR Doc. 2014-30087 Filed 12-22-14; 8:45 am]

BILLING CODE 4810-AL-P